DEPARTMENT OF COMMERCE

Census Bureau

2007 Economic Census Covering the Information; Professional, Scientific, and Technical Services; Management of Companies and Enterprises; Administrative and Support and Waste Management and Remediation Services; Educational Services; Health Care and Social Assistance; Arts, Entertainment, and Recreation; and Other Services (Except Public Administration) Sectors

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 23, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Jack Moody, U.S. Census Bureau, Room 2784, Building 3, Washington, DC 20233-0001 on (301) 763-5181 or via the Internet at jmoody@census.gov.

SUPPLEMENTARY INFORMATION:

I. Abstract

The economic census, conducted under the authority of Title 13, United States Code (U.S.C.), is the primary source of facts about the structure and functioning of the Nation's economy. Economic statistics serve as part of the framework for the national accounts and provide essential information for government, business, and the general public. Economic data are the Census Bureau's primary program commitment during nondecennial census years. The 2007 Economic Census covering the Information; Professional, Scientific, and Technical Services; Management of Companies and Enterprises; Administrative and Support and Waste Management and Remediation Services; Educational Services; Health Care and Social Assistance; Arts, Entertainment, and Recreation; and Other Services (Except Public Administration) sectors (as defined by the North American Industry Classification System (NAICS) will measure the economic activity of 2.9 million establishments. The information collected will produce basic statistics by kind of business on the number of establishments, receipts/revenue, expenses, payroll, and employment. It will also yield a variety of subject statistics, including receipts/revenue by product line, receipts/revenue by class of customer, and other industry-specific measures. Primary strategies for reducing burden in Census Bureau economic data collections are to increase reporting through standardized questionnaires and broader electronic data collection methods.

II. Method of Collection

Mail Selection Procedures

Establishments for the mail canvass will be selected from the Census Bureau's Business Register. To be eligible for selection, an establishment will be required to satisfy the following conditions: (i) It must be classified in the information; professional, scientific, and technical services; management of companies and enterprises; administrative and support and waste management and remediation services; educational services; health care and social assistance; arts, entertainment, and recreation; or other services (except public administration) sector; (ii) it must be an active operating establishment of a multi-establishment firm (i.e., a firm that operates at more than one physical location), or it must be a single-establishment firm with payroll (i.e., a firm that operates at only one physical location); and (iii) it must be located in one of the 50 states or the District of Columbia. Mail selection procedures will distinguish the following groups of establishments:

1. Establishments of Multi-Establishment Firms

Selection procedures will assign all active operating establishments of multi-establishing firms to the mail component of the potential respondent universe. We estimate that the 2007 Economic Census mail canvasses will include approximately 467,000 establishments of multi-establishment firms.

2. Single-Establishment Firms With Payroll

As an initial step in the selection process, we will conduct a study of the potential respondent universe. This study will produce a set of industry-specific payroll cutoffs that we will use to distinguish large versus small single-establishment firms within each industry or kind of business. This payroll size distinction will affect selection as follows:

a. Large Single-Establishment Firms

Selection procedures will assign single-establishment firms having annualized payroll (from Federal administrative records) that equals or exceeds the cutoff for their industry to the mail component of the potential respondent universe. We estimate that the 2007 Economic Census mail canvasses will include approximately 769,000 large single-establishment firms.

b. Small Single-Establishment Firms

Selection procedures also will assign a sample of single-establishment firms having annualized payroll below the cutoff for their industry to the mail component of the potential respondent universe. Sampling strata and corresponding probabilities of selection will be determined by a study of the potential respondent universe conducted shortly before mail selection operations begin. We estimate that the 2007 Economic Census mail canvasses will include approximately 79,000 small single-establishment firms selected in this sample.

All remaining single-establishment firms with payroll will be represented in the census by data from Federal administrative records. Generally, we will not include these small employers in the census mail canvass. However, administrative records sometimes have fundamental industry classification deficiencies that make them unsuitable for use in producing detailed industry statistics by geographic area. When we find such a deficiency, we will mail the firm a census classification form to collect basic information needed to resolve the problem. We estimate that the 2007 Economic Census mail canvasses for the sectors covered by this submission will include approximately 472,000 small single-establishment firms that receive these classification forms.

III. Data

OMB Number: Not available.

Form Number: The 78 standard forms, 19 classification forms, and 6 ownership or control flyers used to collect information from businesses in these sectors of the economic census are tailored to specific business practices and are too numerous to list separately in the notice. Requests for information on the proposed content of the forms should be directed to Jack Moody, U.S. Census Bureau, Room 2784, Building 3, Washington, DC 20233-0001 on (301) 763-5181 or via the Internet at jmoody@census.gov.

Type of Review: Regular review.

Affected Public: State or local governments, businesses or other for profit, non-profit institutions, and small businesses or organizations.

Estimated Number of Respondents:

Information:

Standard Form—101,197.

Classification Form—none.

Professional, Scientific, and Technical Services:

Standard Form—258,276.

Classification Form—117,844.

Management of Companies and Enterprises

Standard Form—66,020.

Classification Form—none.

Administrative and Support and Waste Management and Remediation Services:

Standard Form—152,050.

Classification Form—117,844.

Educational Services:

Standard Form—24,740.

Classification Form—14,141.

Health Care and Social Assistance:

Standard Form—366,097.

Classification Form—89,561.

Arts, Entertainment, and Recreation:

Standard Form—65,320.

Classification Form—18,855.

Other Services (Except Public Administration)

Standard Form—280,957.

Classification Form—113,130.

Total: 1,786,032.

Estimated Time Per Response:

Information:

Standard Form—1.2 hours.

Classification Form—none.

Professional, Scientific, and Technical Services:

Standard Form—1.6 hours.

Classification Form—.1 hours.

Management of Companies and Enterprises

Standard Form—.8 hours.

Classification Form—none.

Administrative and Support and Waste Management and Remediation Services:

Standard Form—1.2 hours.

Classification Form—.1 hours.

Educational Services:

Standard Form—.9 hours.

Classification Form—.1 hours.

Health Care and Social Assistance:

Standard Form—1.1 hours.

Classification Form—.1 hours.

Arts, Entertainment, and Recreation:

Standard Form—1.2 hours.

Classification Form—.1 hours.

Other Services (Except Public Administration)

Standard Form—1.0 hours.

Classification Form—.1 hours.

Estimated Total Annual Burden Hours: 1,601,405 hours.

Estimated Total Annual Cost: $39,506,661.

Respondent's Obligation: Mandatory.

Legal Authority: Title 13, U.S.C., 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 18, 2006.
Madeleine Clayton,
Management Analyst, Office of the Chief Information Officer.

[FR Doc. E6-6045 Filed 4-21-06; 8:45 am]

BILLING CODE 3510-07-P